DEPARTMENT OF HEALTH AND HUMAN SERVICES

Administration for Children and Families

Submission for OMB Review; Comment Request

Title: Methodology for Determining If an Increase in a State or Territory's Child Poverty Rate Is the Result of the TANF Program.

OMB No.: 0970-0186.

Description: In accordance with section 413(i) of the Social Security Act and 45 CFR part 284, DHHS intends to extend the following information collection requirements for instances when Census Bureau data show that a State's child poverty rate increased by 5% or more from 1 year to the next: (1) Optional submission of data on child poverty from an independent source; (2) if the increase in the State's child poverty rate is still determined to be 5% or more, an assessment of the impact of the TANF program(s) in the State on the child poverty rate; and (3) if DHHS determines from the assessment and other information that the child poverty rate in the State increased as a result of the TANF program(s) in the State, a corrective action plan.

Respondents: The respondents are the 50 States and the District of Columbia; and when reliable Census Bureau data become available for the Territories, additional respondents will be Guam, Puerto Rico, and the Virgin Islands.

Annual Burden Estimates
Instrument | Number of respondents | Number of responses per respondent | Average burden hours per response | Total burden hours
Optional Submission of Data on Child Poverty from an Independent Source | 54 | 1 | 8 | 432
Assessment of the Impact of TANF on the Increase in Child Poverty | 54 | 1 | 120 | 6,480
Corrective Action Plan | 54 | 1 | 160 | 8,640
Estimated Total Annual Burden Hours |  |  |  | 15,552

Additional Information:

Copies of the proposed collection may be obtained by writing to The Administration for Children and Families, Office of Information Services, 370 L'Enfant Promenade, SW., Washington, DC 20447, Attn: ACF Reports Clearance Officer.

OPM Comment:

OMB is required to make a decision concerning the collection of information between 30 and 60 days after publication of this document in the Federal Register. Therefore, a comment is best assured of having its full effect if OMB receives it within 30 days of publication. Written comments and recommencations for the proposed information should be sent directly to the following: Office of Management and Budget, Paperwork Reduction Project, 725 17th Street, NW., Washington, DC 20503, Attn: Desk Officer for ACF.

Dated: December 4, 2001.
Bob Sargis,
Reports Clearance Officer.

[FR Doc. 01-30732 Filed 12-11-01; 8:45 am]

BILLING CODE 4184-01-M